UNIFIED CARRIER REGISTRATION PLAN

Sunshine Act Meeting Notice; Unified Carrier Registration Plan Board Subcommittee Meeting

TIME AND DATE: April 16, 2020, from Noon to 3:00 p.m., Eastern time.

PLACE: This meeting will be accessible via conference call. Any interested person may call (i) 1-877-853-5247 (US Toll Free), (ii) 1-888-788-0099 (US Toll Free), (iii) 1-669-900-6833 (US Toll), or (iv) 1-929-205-6099 (US Toll), Conference ID: 360 608 3231, to listen and participate in this meeting.

STATUS: This meeting will be open to the public.

MATTERS TO BE CONSIDERED: The Unified Carrier Registration Plan Education and Training Subcommittee (the “Subcommittee”) will continue its work in developing and implementing the Unified Carrier Registration Plan and Agreement. The subject matter of this meeting will include:

Proposed Agenda

I. Call to Order—UCR Subcommittee Chair

The Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—Subcommittee Chair

For Discussion and Possible Subcommittee Action

The Subcommittee Agenda will be reviewed, and the Subcommittee will consider adoption.

Ground Rules

Subcommittee action only to be taken in designated areas on agenda

Please MUTE your phone

Please do not place the call on HOLD

IV. Approval of Minutes From January 27, 2020 and March 19, 2020 Meetings—UCR Operations Manager

• Draft minutes from the January 27, 2020 Education and Training Subcommittee meeting in San Antonio, Texas will be reviewed. The Subcommittee will consider action to approve.

• Draft minutes from the March 19, 2020 Education and Training Subcommittee meeting via teleconference will be reviewed. The Subcommittee will consider action to approve.

V. Update on Education and Training Modules—UCR Technology Director

The UCR Technology Director will review the development of each of the three education and training modules (Enforcement, UCR 101, and National Registration System), including format and budget. The Subcommittee will discuss and provide comments on the education and training modules.

VI. Role of Subcommittee in Development of Modules—UCR Technology Director

The UCR Technology Director will lead a discussion on the need for assistance and guidance from the Subcommittee in the development of the modules.

VII. Planning for Education and Training Sessions at June 8, 2020 Meeting—Subcommittee Chair

The Subcommittee Chair will report on the latest plans for UCR to host several live education and training sessions at the summer meeting on June 8, 2020 in Portland, Oregon.

VIII. Other Items—Subcommittee Chair

The Subcommittee Chair will call for any other items the Subcommittee members would like to discuss.

IX. Adjournment—Subcommittee Chair

Chair will adjourn the meeting.

The agenda will be available no later than 5:00 p.m. Eastern time, April 8, 2020 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2020-07693 Filed 4-8-20; 11:15 am]

BILLING CODE 4910-YL-P